DEPARTMENT OF DEFENSE

Department of the Army

[Docket ID: USA-2021-HQ-0022]

Proposed Collection; Comment Request

AGENCY: Department of the Army, Department of Defense (DoD).

ACTION: Information collection notice.

SUMMARY: In compliance with the Paperwork Reduction Act of 1995, Army Survivor Outreach Services announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 6, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to United States Army Installation Management Command Headquarters, 2405 Gun Shed Road, Bldg. 2261 JBSA-Fort Sam Houston, TX 78234, ATTN: Mrs. Kelly Frank, or call 210-466-1200.

SUPPLEMENTARY INFORMATION: Title; Associated Form; and OMB Number: Survivor Access Card Application Form; OMB Control Number 0702-SACA.

Needs and Uses: In accordance with AR 190-13, The Army Physical Security Program directed access to Army installations by Family members who are Gold Star and Next of Kin Surviving members to receive services, attend events, view memorials, and similar activities. A Gold Star Family member is a Survivor of a Service member who has lost their life during any armed hostilities in which the United States was engaged and authorized to wear the Gold Star Lapel Button. The Next of Kin Family member is a Survivor of a Service member who lost their life while serving on active duty. Both Gold Star and Gold Star Next of Kin include Survivors of Service members who lose their lives while assigned to a reserve or National Guard unit in drill status. Eligible Survivors to receive the Gold Star Lapel Button or Gold Star Next of Kin (NOK) Lapel Button include the following: Widow or widower, parents, each child, stepchild, child through adoption, brother, half-brother, sister, half-sister or step-siblings. Eligible Survivors must first contact the installation level Survivor Outreach Services (SOS) support coordinator to verify eligibility and coordinate issuance of an installation access credential. Current procedures for obtaining a Survivor Access Card (SAC) direct the Survivor Outreach Service Staff members to assist Survivors in completing the application process for the SAC, verifying the Survivor's eligibility, and coordinating with the installation office responsible for issuing cards. The SAC is issued through the installation's Visitor Control Center. The collection instrument, Survivor Access Card Application Form, is obtained by eligible Surviving Family members from the SOS staff members. The collection instrument is completed electronically and in person by the eligible Surviving Family members, SOS staff members, and Physical Security Personnel. Eligible Surviving Family members are responding to the information collection to obtain the SAC which grants unescorted access onto Army installations to authorized facilities. The SOS staff member forwards the request to the local garrison Physical Security Office to conduct an NCIC-III check. After an applicant is approved, a SAC is issued through the local identification card section or the Automated Installation Entry (AIE) digital SAC is issued through the installation's Visitor Control Center.

Affected public: Individuals or households.

Annual burden hours: 670.

Number of respondents: 670.

Responses per respondent: 1.

Annual responses: 670.

Average burden per response: 1 hour.

Frequency: Once.

Dated: September 28, 2021.
Aaron T. Siegel,
Alternate OSD Federal Register Liaison Officer, Department of Defense.

[FR Doc. 2021-21598 Filed 10-4-21; 8:45 am]

BILLING CODE 2001-06-P